DEPARTMENT OF HOMELAND SECURITY

Federal Emergency Management Agency

[Docket ID FEMA-2013-0002; Internal Agency Docket No. FEMA-B-1281]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before May 6, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1281, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Fairbanks North Star Borough, Alaska, and Incorporated Areas
Maps Available for Inspection Online at: http://www.starr-team.com/starr/RegionalWorkspaces/RegionX/FairbanksMM/Preliminary%20Maps/Forms/AllItems.aspx
Fairbanks North Star Borough | Department of Community Planning, Borough Administrative Center, 809 Pioneer Road, Fairbanks, AK 99701.
Blackford County, Indiana, and Incorporated Areas
Maps Available for Inspection Online at: http://www.in.gov/dnr/water/6476.htm
City of Hartford City | Blackford County Area Planning and Zoning Office, Blackford County Courthouse, 110 West Washington Street, Hartford City, IN 47348.
City of Montpelier | Blackford County Area Planning and Zoning Office, Blackford County Courthouse, 110 West Washington Street, Hartford City, IN 47348.
Unincorporated Areas of Blackford County | Blackford County Area Planning and Zoning Office, Blackford County Courthouse, 110 West Washington Street, Hartford City, IN 47348.
Hamilton County, Indiana, and Incorporated Areas
Maps Available for Inspection Online at: http://www.in.gov/dnr/water/5775.htm
City of Carmel | Department of Community Services, One Civic Square, Carmel, IN 46032.
City of Noblesville | City Hall, Department of Planning and Zoning, 16 South 10th Street, Noblesville, IN 46060.
City of Westfield | City Hall, 130 Penn Street, Westfield, IN 46074.
Town of Cicero | Utility Office, 150 West Jackson Street, Cicero, IN 46034.
Town of Fishers | Administrative Offices, One Municipal Drive, Fishers, IN 46038.
Town of Sheridan | Town Hall, 506 South Main Street, Sheridan, IN 46069.
Unincorporated Areas of Hamilton County | Hamilton County Government and Judicial Center, One Hamilton County Square, Noblesville, IN 46060.
Madison County, Indiana, and Incorporated Areas
Maps Available for Inspection Online at: http://www.in.gov/dnr/water/7378.htm
City of Anderson | City Hall, 120 East Eighth Street, Anderson, IN 46016.
Town of Chesterfield | Town Hall, 17 Veterans Boulevard, Chesterfield, IN 46017.
Town of Ingalls | Town Hall, 247 North Meridian Street, Ingalls, IN 46048.
Town of Pendleton | Town Hall, 100 West State Street, Pendleton, IN 46064.
Unincorporated Areas of Madison County | Madison County Government Center, 16 East 9th Street, Room 200, Anderson, IN 46016.
Kittson County, Minnesota, and Incorporated Areas
Maps Available for Inspection Online at: http://www.starr-team.com/starr/RegionalWorkspaces/RegionV/KittsonCoMN/SitePages/Home.aspx
City of Hallock | City Hall, 163 South Third Street, Hallock, MN 56728.
City of Humboldt | City Hall, 204 Ramsey Street, Humboldt, MN 56731.
City of Kennedy | City Office, 414 North Atlantic Avenue, Suite 100, Kennedy, MN 56733.
City of Lake Bronson | City Hall, 112 Main Street, Lake Bronson, MN 56734.
City of Lancaster | City Clerk Office, 100 Second Street West, Lancaster, MN 56735.
City of St. Vincent | City Clerk, 142 South Eighth Street, St. Vincent, MN 56755.
Unincorporated Areas of Kittson County | Kittson County Courthouse, 410 Fifth Street South, Suite 104, Hallock, MN 56728.
Broadwater County, Montana, and Incorporated Areas
Maps Available for Inspection Online at: http://www.bakeraecom.com/index.php/montana/broadwater/
City of Townsend | 110 Broadway Street, Townsend, MT 59644.
Unincorporated Areas of Broadwater County | Broadwater County Treasurer, 515 Broadway Street, Townsend, MT 59644.

(Catalog of Federal Domestic Assistance No. 97.022, “Flood Insurance.”)

James A. Walke,
Acting Deputy Associate Administrator for Mitigation, Department of Homeland Security, Federal Emergency Management Agency.

[FR Doc. 2013-02455 Filed 2-4-13; 8:45 am]

BILLING CODE 9110-12-P